DEPARTMENT OF HOMELAND SECURITY

U.S. Customs and Border Protection

[CBP Dec. 20-15]

Country of Origin Marking of Products of Hong Kong

AGENCY: U.S. Customs and Border Protection, Department of Homeland Security.

ACTION: General notice.

SUMMARY: This document notifies the public that, in light of the President's Executive Order on Hong Kong Normalization, issued on July 14, 2020, suspending the application of section 201(a) of the United States-Hong Kong Policy Act of 1992 to the marking statute, section 304 of the Tariff Act of 1930, with respect to imported goods produced in Hong Kong, such goods may no longer be marked to indicate “Hong Kong” as their origin, but must be marked to indicate “China.”

DATES: The position set forth in this document is applicable as of July 29, 2020. A transition period will be granted for importers to implement marking consistent with this position for imported goods produced in Hong Kong. Such goods, when entered or withdrawn from warehouse for consumption into the United States after September 25, 2020, must be marked to indicate that their origin is “China” for purposes of 19 U.S.C. 1304.

FOR FURTHER INFORMATION CONTACT: For legal matters, contact Yuliya Gulis, Chief, Food, Textiles and Marking Branch, Regulations and Rulings, Office of Trade, (202) 325-0042 or yuliya.a.gulis@cbp.dhs.gov. For policy matters, contact Margaret Gray, Chief, Trade Agreements Branch, Office of Trade, (202) 253-0927 or FTA@cbp.dhs.gov.

SUPPLEMENTARY INFORMATION:

Background

Section 304 of the Tariff Act of 1930 as amended (19 U.S.C. 1304), provides that, unless excepted, every article of foreign origin (or its container) imported into the United States shall be marked in a conspicuous place as legibly, indelibly, and permanently as the nature of the article (or its container) will permit, in such a manner as to indicate to the ultimate purchaser in the United States the English name of the country of origin of the article. Failure to mark an article in accordance with the requirements of 19 U.S.C. 1304 shall result in the levy of a duty of ten percent ad valorem. Part 134 of title 19 of the Code of Federal Regulations (19 CFR part 134), implements the country of origin marking requirements and exceptions of 19 U.S.C. 1304.

On June 5, 1997, the U.S. Customs Service (U.S. Customs and Border Protection's predecessor agency) issued a Federal Register notice that goods produced in Hong Kong should continue to be marked to indicate their origin as “Hong Kong” under 19 U.S.C. 1304 after Hong Kong's reversion to the sovereignty of the People's Republic of China (China) on July 1, 1997. See 62 FR 30927 (June 5, 1997).

On July 14, 2020, the President issued Executive Order 13936 on Hong Kong Normalization. See 85 FR 43413 (July 17, 2020). Pursuant to section 202 of the United States-Hong Kong Policy Act of 1992 (22 U.S.C. 5722), the President suspended the application of section 201(a) of the United States-Hong Kong Policy Act of 1992, as amended (22 U.S.C. 5721(a)), to certain statutes, including 19 U.S.C. 1304, due to the determination that Hong Kong is no longer sufficiently autonomous to justify differential treatment in relation to China. The President ordered that, within 15 days of the Executive Order, appropriate actions must be commenced by relevant agencies, consistent with applicable law.

Given the commercial realities, affected parties may need a transition period to implement marking consistent with the position announced in this notice. Therefore, this document notifies the public that, unless excepted from marking, goods produced in Hong Kong, which are entered or withdrawn from warehouse for consumption into the United States after September 25, 2020, must be marked to indicate that their origin is “China” for purposes of 19 U.S.C. 1304.

Dated: August 6, 2020.
Brenda B. Smith,
Executive Assistant Commissioner, Office of Trade.

[FR Doc. 2020-17599 Filed 8-10-20; 8:45 am]

BILLING CODE 9111-14-P